DEPARTMENT OF HOUSING AND URBAN DEVELOPMENT

[Docket No. FR-4572-D-19]

Redelegation of Authority To Remove Appraisers From FHA Roster

AGENCY: Office of the Assistant Secretary for Housing, HUD.

ACTION: Notice of redelegation of authority to remove appraisers from the FHA roster pursuant to the HUD regulation at 24 CFR part 200.204.

SUMMARY: By this action, the Assistant Secretary for Housing-Federal Housing Commissioner re-delegates to certain HUD officials, in the FHA Single Family Homeownership Centers (HOCs) in Philadelphia, PA; Atlanta, GA; Denver, CO and Santa Ana, CA, the power and authority to issue notices of removal from the FHA roster to appraisers who have been found in violation of HUD regulations at 24 CFR 200.204(a)(1).

EFECTIVE DATE: July 19, 2001.

FOR FURTHER INFORMATION CONTACT: Vance T. Morris, Director, Office of Insured Single Family Housing Program Development, Room 9266, U.S. Department of Housing and Urban Development, 451 Seventh Street, SW., Washington, DC 20410; telephone (202) 708-2700 (this is not a toll-free number. This number may be accessed via TTY by calling the Federal Information Relay Service a 1-800-877-8339.

SUPPLEMENTARY INFORMATION: HUD's regulation at 24 CFR 200.204 sets forth reasons for removing an appraiser from the FHA roster, procedures for removal and reinstatement of the appraiser, and types of remedies available to the Department against an appraiser found to have violated HUD statutes or regulations. On July 27, 2000, the Assistant Secretary for Housing re-delegated to designated officials in each HOC the power and authority to issue written notices of proposed removal, and to process any appeals of the notice of proposed removal, including conducting an informal conference if requested by the appraiser. (See 65 FR 49004, August 10, 2000.) The re-delegation indicated that, unless extended, it would automatically expire on July 27, 2001. The Assistant Secretary has determined that the re-delegation should be extended subject to the limitations in Section B below.

Therefore, the Assistant Secretary for Housing hereby retains and re-delegates authority, as follows:

Section A. Re-Delegation of Authority

1. Notices of Proposed Roster Removal: In accordance with 24 CFR 200.204(a)(2)(i), the Director of the Processing and Underwriting Division within each HOC, and the Branch Chief of the Technical Branch within that Division, are each, individually, re-delegated the authority to issue the written notice of proposed roster removal to the appraiser. This notice will include the reasons for the proposed removal and the duration of the removal.

2. Appeals of Proposed Roster Removals: In accordance with 24 CFR 200.204(a)(2)(iii), the Director of the HOC, and the Deputy Director of the HOC, are each, individually, re-delegated the authority to handle appeals of the notice of proposed removal, including conducting an informal conference if so requested by the appraiser. Also, in accordance with 24 CFR 200.204(a)(2)(iii), within 30 days of receiving a written response from an appraiser, or within 30 days of the completion of an informal conference, the Director or Deputy Director of the HOC will review the appraiser's appeal and will issue a final decision either affirming, modifying or canceling an appraiser's removal from the appraiser roster. The time period for responding to an appraiser's appeal may be extended upon notice to the appraiser. The HOC Director or Deputy Director may not have been involved in HUD's initial removal decision.

Section B. Limitations on Authority

1. Waiver of HUD Regulations: The authority re-delegated does not include the authority to waive HUD regulations.

2. Term of Re-delegation: The Assistant Secretary for Housing may revoke this re-delegation of authority, in whole or part, at any time.

3. No Further Re-delegation of Authority: The authority re-delegated herein may not be further re-delegated.

Authority: Single Family Mortgage Insurance; Appraiser Roster Removal Procedures, 24 CFR part 200; Notice of Consolidated Delegations of Authority for Housing, 54 FR 22033, May 22, 1989, as amended.

Dated: July 19, 2001.
John C. Weicher,
Assistant Secretary for Housing-Federal Housing Commissioner.

[FR Doc. 01-18612 Filed 7-25-01; 8:45 am]

BILLING CODE 4210-27-P